DEPARTMENT OF HOMELAND SECURITY

Federal Emergency Management Agency

[Docket ID FEMA-2021-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Madison (FEMA Docket No.: B-2064). | City of Madison (19-04-3126P). | The Honorable Paul Finley, Mayor, City of Madison, 100 Hughes Road, Madison, AL 35758. | Engineering Department, 100 Hughes Road, Madison, AL 35758. | Oct. 13, 2020 | 010308
Delaware: Sussex (FEMA Docket No.: B-2054). | Town of South Bethany (20-03-1169P). | The Honorable Tim Saxton, Mayor, Town of South Bethany, 402 Evergreen Road, South Bethany, DE 19930. | Town Hall, 402 Evergreen Road, South Bethany, DE 19930. | Dec. 18, 2020 | 100051
Florida:
Lee (FEMA Docket No.: B-2059). | City of Fort Myers (20-04-2960P). | Mr. Saeed Kazemi, Manager, City of Fort Myers, 1825 Hendry Street, Suite 101, Fort Myers, FL 33901. | Community Development Department, 1825 Hendry Street, Fort Myers, FL 33901. | Dec. 18, 2020 | 125106
Lee (FEMA Docket No.: B-2064). | Town of Fort Myers Beach (20-04-2530P). | The Honorable Ray Murphy, Mayor, Town of Fort Myers Beach, 2525 Estero Boulevard, Fort Myers Beach, FL 33931. | Community Development Department, 2525 Estero Boulevard, Fort Myers Beach, FL 33931. | Dec. 24, 2020 | 120673
Manatee (FEMA Docket No.: B-2059). | Unincorporated areas of Manatee County (20-04-3496P). | The Honorable Betsy Benac, Chair, Manatee County Board of Commissioners, 1112 Manatee Avenue West, Bradenton, FL 34205. | Manatee County Administration Building, 1112 Manatee Avenue West, Bradenton, FL 34205. | Dec. 21, 2020 | 120153
Palm Beach (FEMA Docket No.: B-2064). | City of Westlake (20-04-1257P). | The Honorable Roger Manning, Mayor, City of Westlake, 4001 Seminole Pratt Whitney Road, Westlake, FL 33470. | City Hall, 4001 Seminole Pratt Whitney Road, Westlake, FL 33470. | Dec. 29, 2020 | 120018
Palm Beach (FEMA Docket No.: B-2059). | Unincorporated areas of Palm Beach County (20-04-1768P). | Ms. Verdenia C. Baker, Palm Beach County Administrator, 301 North Olive Avenue, Suite 1101, West Palm Beach, FL 33401. | Palm Beach County Building Division, 2300 North Jog Road, West Palm Beach, FL 33411. | Dec. 14, 2020 | 120192
Pasco (FEMA Docket No.: B-2054). | Unincorporated areas of Pasco County (20-04-2795P). | The Honorable Mike Moore, Chairman, Pasco County Board of Commissioners, 8731 Citizens Drive, New Port Richey, FL 34654. | Pasco County Development Review Division, 7530 Little Road, New Port Richey, FL 34654. | Dec. 17, 2020 | 120230
Polk (FEMA Docket No.: B-2059). | Unincorporated areas of Polk County (20-04-3597P). | The Honorable Bill Braswell, Chairman, Polk County Board of Commissioners, P.O. Box 9005, Drawer BC01, Bartow, FL 33831. | Polk County Land Development Division, 330 West Church Street, Bartow, FL 33830. | Dec. 24, 2020 | 120261
Seminole (FEMA Docket No.: B-2059). | City of Longwood (20-04-2794P). | The Honorable Clint Gioielli, Acting Manager, City of Longwood, 175 West Warren Avenue, Longwood, FL 32750. | City Hall, 175 West Warren Avenue, Longwood, FL 32750. | Dec. 21, 2020 | 120292
Seminole (FEMA Docket No.: B-2054). | Unincorporated areas of Seminole County (20-04-1621P). | The Honorable Jay Zembower, Chairman, Seminole County Board of Commissioners, 1101 East 1st Street, Sanford, FL 32771. | Seminole County Services Building, 1101 East 1st Street, Sanford, FL 32771. | Dec. 16, 2020 | 120289
Oklahoma: Oklahoma (FEMA Docket No.: B-2059). | City of Harrah (20-06-0411P). | The Honorable Larry Fryar, Mayor, City of Harrah, 19625 Northeast 23rd Street, Harrah, OK 73045. | City Hall, 19625 Northeast 23rd Street, Harrah, OK 73045. | Dec. 14, 2020 | 400140
Pennsylvania:
Montgomery (FEMA Docket No.: B-2059). | Township of Hatfield (20-03-0395P). | The Honorable Tom Zipfel, President, Township of Hatfield Board of Commissioners, 1950 School Road, Hatfield, PA 19440. | Township Hall, 1950 School Road, Hatfield, PA 19440. | Dec. 28, 2020 | 420699
Montgomery (FEMA Docket No.: B-2059). | Township of Hatfield (20-03-1140P). | The Honorable Tom Zipfel, President, Township of Hatfield Board of Commissioners, 1950 School Road, Hatfield, PA 19440. | Township Hall, 1950 School Road, Hatfield, PA 19440. | Dec. 18, 2020 | 420699
Montgomery (FEMA Docket No.: B-2059). | Township of Montgomery (20-03-0395P). | The Honorable Tanya C. Bamford, Chair, Township of Montgomery Board of Supervisors, 1001 Stump Road, Montgomeryville, PA 18936. | Planning and Zoning Department, 1001 Stump Road, Montgomeryville, PA 18936. | Dec. 28, 2020 | 421226
Northampton (FEMA Docket No.: B-2054). | Township of Lower Nazareth (20-03-0708P). | The Honorable James S. Pennington, Chairman, Township of Lower Nazareth Board of Supervisors, 623 Municipal Drive, Nazareth, PA 18064. | Planning and Zoning Department, 623 Municipal Drive, Nazareth, PA 18064. | Dec. 14, 2020 | 422253
South Carolina: Berkeley (FEMA Docket No.: B-2064). | Unincorporated areas of Berkeley County (19-04-6176P). | The Honorable Johnny Cribb, Chairman, Berkeley County Council, 1003 Highway 52, Moncks Corner, SC 29461. | Berkeley County Administration Building, 1003 Highway 52, Moncks Corner, SC 29461. | Dec. 31, 2020 | 450029
Texas:
Bexar (FEMA Docket No.: B-2064). | City of San Antonio (20-06-2465P). | The Honorable Ron Nirenberg, Mayor, City of San Antonio, P.O. Box 839966, San Antonio, TX 78283. | Transportation and Capitol Improvements Department, Storm Water Division, 114 West Commerce Street, 7th Floor, San Antonio, TX 78205. | Dec. 28, 2020 | 480045
Bexar (FEMA Docket No.: B-2064). | Unincorporated areas of Bexar County (19-06-3962P). | The Honorable Nelson W. Wolff, Bexar County Judge, 101 West Nueva Street, 10th Floor, San Antonio, TX 78205. | Bexar County Public Works Department, 1948 Probandt Street, San Antonio, TX 78214. | Dec. 28, 2020 | 480035
Bexar (FEMA Docket No.: B-2064). | Unincorporated areas of Bexar County (20-06-0078P). | The Honorable Nelson W. Wolff, Bexar County Judge, 101 West Nueva Street, 10th Floor, San Antonio, TX 78205. | Bexar County Public Works Department, 1948 Probandt Street, San Antonio, TX 78214. | Dec. 28, 2020 | 480035
Bexar (FEMA Docket No.: B-2064). | Unincorporated areas of Bexar County (20-06-2465P). | The Honorable Nelson W. Wolff, Bexar County Judge, 101 West Nueva Street, 10th Floor, San Antonio, TX 78205. | Bexar County Public Works Department, 1948 Probandt Street, San Antonio, TX 78214. | Dec. 28, 2020 | 480035
Collin (FEMA Docket No.: B-2054). | City of Plano (20-06-0790P). | The Honorable Harry LaRosiliere, Mayor, City of Plano, 1520 K Avenue, Suite 300, Plano, TX 75074. | Department of Engineering, 1520 K Avenue, Suite 250, Plano, TX 75074. | Dec. 14, 2020 | 480140
Guadalupe (FEMA Docket No.: B-2067). | City of San Marcos (20-06-3176P). | The Honorable Jane Hughson, Mayor, City of San Marcos, 630 East Hopkins Street, San Marcos, TX 78666. | Engineering Department, 630 East Hopkins Street, San Marcos, TX 78666. | Dec. 31, 2020 | 485505
Harris (FEMA Docket No.: B-2059). | Unincorporated areas of Harris County (20-06-2000P). | The Honorable Lina Hidalgo, Harris County Judge, 1001 Preston Street, Suite 911, Houston, TX 77002. | Harris County Permit Office, 10555 Northwest Freeway, Suite 120, Houston, TX 77002. | Dec. 14, 2020 | 480287
Harris (FEMA Docket No.: B-2064). | Unincorporated areas of Harris County (20-06-2070P). | The Honorable Lina Hidalgo, Harris County Judge, 1001 Preston Street, Suite 911, Houston, TX 77002. | Harris County Permit Office, 10555 Northwest Freeway, Suite 120, Houston, TX 77002. | Dec. 28, 2020 | 480287
Midland (FEMA Docket No.: B-2064). | City of Midland (19-06-3886P). | The Honorable Patrick Payton, Mayor, City of Midland, 300 North Loraine Street, Midland, TX 79701. | City Hall, 300 North Loraine Street, Midland, TX 79701. | Dec. 29, 2020 | 480477
Rockwall (FEMA Docket No.: B-2059). | City of Rockwall (20-06-1071P). | Mr. Richard R. Crowley, Manager, City of Rockwall, 385 South Goliad Street, Rockwall, TX 75087. | Engineering Department, 385 South Goliad Street, Rockwall, TX 75087. | Dec. 28, 2020 | 480547
Tarrant (FEMA Docket No.: B-2059). | City of Fort Worth (20-06-1449P). | The Honorable Betsy Price, Mayor, City of Fort Worth, 200 Texas Street, Fort Worth, TX 76102. | Department of Transportation and Public Works, Engineering Vault, 200 Texas Street, Fort Worth, TX 76102. | Dec. 24, 2020 | 480596
Tarrant (FEMA Docket No.: B-2054). | City of Fort Worth (20-06-1450P). | The Honorable Betsy Price, Mayor, City of Fort Worth, 200 Texas Street, Fort Worth, TX 76102. | Department of Transportation and Public Works, Engineering Vault, 200 Texas Street, Fort Worth, TX 76102. | Dec. 14, 2020 | 480596
Tarrant (FEMA Docket No.: B-2054). | City of Haltom City (20-06-1525P). | The Honorable An Truong, Mayor, City of Haltom City, 5024 Broadway Avenue, Haltom City, TX 76117. | Public Works Services Department, 5024 Broadway Avenue, Haltom City, TX 76117. | Dec. 14, 2020 | 480599
Williamson (FEMA Docket No.: B-2059). | City of Cedar Park (20-06-1685P). | The Honorable Corbin Van Arsdale, Mayor, City of Cedar Park, 450 Cypress Creek Road, Building 1, Cedar Park, TX 78613. | Engineering Department, 450 Cypress Creek Road, Building 1, Cedar Park, TX 78613. | Dec. 14, 2020 | 481282
Virginia:
Prince William (FEMA Docket No.: B-2054). | City of Manassas (20-03-0476P). | The Honorable Harry J. Parrish, II, Mayor, City of Manassas, 9027 Center Street, Suite 101, Manassas, VA 20110. | Public Works Department, 8500 Public Works Drive, Manassas, VA 20110. | Dec. 17, 2020 | 510122
Prince William (FEMA Docket No.: B-2054). | Unincorporated areas of Prince William County (20-03-0476P). | Mr. Christopher E. Martino, Prince William County Executive, 1 County Complex Court, Prince William, VA 22192. | Prince William County Department of Public Works, Watershed Management Branch, 5 County Complex Court, Prince William, VA 22192. | Dec. 17, 2020 | 510119
York (FEMA Docket No.: B-2054). | City of Newport News (20-03-0336P). | The Honorable McKinley L. Price, Mayor, City of Newport News, 2400 Washington Avenue, 10th Floor, Newport News, VA 23607. | City Hall, 2400 Washington Avenue, Newport News, VA 23607. | Dec. 22, 2020 | 510103
York (FEMA Docket No.: B-2054). | Unincorporated areas of York County (20-03-0336P). | Mr. Neil A. Morgan, York County Administrator, P.O. Box 532, Yorktown, VA 23692. | York County Department of Public Works, 105 Service Drive, Yorktown, VA 23692. | Dec. 22, 2020 | 510182

[FR Doc. 2021-01511 Filed 1-22-21; 8:45 am]

BILLING CODE 9110-12-P